DEPARTMENT OF THE INTERIOR

National Park Service

[NPS-WASO-NRNHL-DTS#-36049; PPWOCRADI0, PCU00RP14.R50000]

National Register of Historic Places; Notification of Pending Nominations and Related Actions

AGENCY: National Park Service, Interior.

ACTION: Notice.

SUMMARY: The National Park Service is soliciting electronic comments on the significance of properties nominated before June 10, 2023, for listing or related actions in the National Register of Historic Places.

DATES: Comments should be submitted electronically by July 10, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 10, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

IOWA

Story County

Cranford Apartment Building, 103 Stanton Ave., Ames, SG100009150

MICHIGAN

Wayne County

Holcomb, Samuel D., School, (Public Schools of Detroit MPS), 18100 Bentler St., Detroit, MP100009147

First Congregational Church, 98 Superior Blvd., Wyandotte, SG100009148

Frances Harper Inn, (The Civil Rights Movement and the African American Experience in 20th Century Detroit MPS), 307 Horton St., Detroit, MP100009149

MINNESOTA

Goodhue County

Ȟe Mni Caŋ-Barn Bluff Historic District (Boundary Increase), Address Restricted, Red Wing vicinity, BC100009133

Lyon County

Tracy Municipal Building and Armory, 336-372 Morgan St., Tracy, SG100009130

Winona County

Lake Park Bandshell, Lake Park Dr., east of intersection with Main St., Winona, SG100009129

OHIO

Cuyahoga County

Strong, Jacob, House, 18829 Fairmount Blvd., Shaker Heights, SG100009131

Lake County

Boyce, Julia F. Country Estate, 37813-19 Euclid Ave., Willoughby, SG100009151

TENNESSEE

Shelby County

Persons, Ell, Lynching Site, Near 5400 Summer Ave., Memphis, SG100009136

Weakley County

Martin Downtown Commercial Historic District, District boundary encompasses the main commercial corridor along the 200, 300, and 400 blks. of Lindell St., and the 300 block of Broadway, Martin, SG100009137

VIRGINIA

Lynchburg INDEPENDENT CITY

Lower Basin Historic District (Boundary Increase II), Generally bounded by Concord Tpk., CSX RR tracks, East Lynch, Main, and Washington Sts., Lynchburg, BC100009146

WEST VIRGINIA

Barbour County

Valley Furnace, WV 38, approx. 750 ft. west of South Shilo Rd. (Cty. Rd. 52), Valley Furnace, SG100009138

Berkeley County

Citizens National Bank, 110 West King St., Martinsburg, SG100009139

Jefferson County

Haines, Nathan, Farm (Boundary Increase), 1673 Lloyd Rd., Charles Town, BC100009140

Marion County

Mount Zion Baptist Church, 501 Cleveland Ave., Fairmont, SG100009141

Mercer County

First Baptist Church of Bluefield, 100 Duhring St., Bluefield, SG100009142

Monroe County

Waiteville School, 1735 Rays Siding Rd., Waiteville, SG100009143

A request for removal has been made for the following resources:

MICHIGAN

Oakland County

Trowbridge Road-Grand Trunk Western Railroad Bridge, (Highway Bridges of Michigan MPS), Trowbridge Rd. over GTW Railroad, Bloomfield Hills, OT00000010

Oscoda County

Oscoda County Courthouse, 311 Morenci Ave., Mio, OT72000651

Additional documentation has been received for the following resources:

COLORADO

Douglas County

Castle Rock Elementary School (Additional Documentation), 3rd and Cantril Sts., Castle Rock, AD84000827

MINNESOTA

Goodhue County

Ȟe Mni Caŋ-Barn Bluff Historic District (Additional Documentation), Address Restricted, Red Wing vicinity, AD90001165

Nomination submitted by Federal Preservation Officer:

The State Historic Preservation Officer reviewed the following nomination and responded to the Federal Preservation Officer within 45 days of receipt of the nomination and supports listing the property in the National Register of Historic Places.

MONTANA

Ravalli County

West Fork Ranger Station, 6735 West Fork Rd., Darby vicinity, SG100009135

Authority: Section 60.13 of 36 CFR part 60.

Dated: June 14, 2023.
Sherry A. Frear,
Chief, National Register of Historic Places/National Historic Landmarks Program.

[FR Doc. 2023-13370 Filed 6-22-23; 8:45 am]

BILLING CODE 4312-52-P